DEPARTMENT OF COMMERCE

Foreign-Trade Zones Board

[B-47-2022]

Foreign-Trade Zone (FTZ) 72—Indianapolis, Indiana, Notification of Proposed Production Activity, Mercury Marine (Marine Service, Repair, Winterization, or Replacement Kits), Brownsburg, Indiana

Mercury Marine submitted a notification of proposed production activity to the FTZ Board (the Board) for its facility in Brownsburg, Indiana, within FTZ 72. The notification conforming to the requirements of the Board's regulations (15 CFR 400.22) was received on October 4, 2022.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: kits for marine engines (catalyst-exhaust pack; hydraulic fluid power pump; tubing; cover; heater; housing kits used in water heaters; for filtering or purifying water; seal; drive hub); kits of rigid tubes, pipes, hoses, or fittings (of polymers of ethylene; of plastics); kits of tubes, pipes, hoses, or fittings, of polymers of propylene; kits of tubes, pipes, or hoses (of plastic; of plastic, with fittings and non-reinforced; of non-reinforced vulcanized rubber; of textile reinforced vulcanized rubber; with fittings, of textile reinforced vulcanized rubber); kits of non-rigid plastic tubes, pipes, or hoses, reinforced with metal or PVC; repair kits (of plastic fittings; of vulcanized rubber gaskets, washers, seals, grommets, or mounts; of connectors for electrical circuits); sets and kits of decals for labeling; air deck kits, tube kits, trailering lock kits, of plastic; kits of reinforced vulcanized rubber tubes, pipes, or hoses, with fittings; kits of metal reinforced vulcanized rubber tubes, pipes, or hoses, with fittings; kits of reinforced rubber hose assemblies, with fittings; kits of reinforced rubber hose assemblies; kits of endless transmission belts of trapezoidal cross section V-belts, V-ribbed, not exceeding 180 cm; kits of transmission belts or belting, of vulcanized rubber; bow bag kits; kits of plywood, veneered panels, or laminated wood; kits of paper brochures or instruction manuals; kits of repair manuals, repair instruction sheets, brochures, leaflets, or printed matter; replacement kits (of twine, cordage, ropes, or cables, of synthetic fibers; of plugs or sockets; of cushions for marine use); gasket maintenance or repair kits; kits of tubes, pipes, or hollow profiles, of seamless alloy steel; kits of circular cross section tubes, pipes, or hollow profiles (of welded stainless steel; of welded alloy steel); kits of bends, sleeves, or threaded elbows (of stainless steel; of iron or steel); kits of drain fit assemblies or fittings for stainless steel tubes and pipes; kits of tube or pipe fittings (of iron or steel; of aluminum alloys); connector kits of stranded wire, ropes, or cables, of iron or steel, not electrically insulated; safety latch repair kits for timing or roller chains, of iron or steel; kits of screws, seals, springs, threaded screws and bolts, rod-links, bushings, nuts, non-threaded washers, rivets, non-threaded cotters or cotter pins, of iron or steel; starter drive repair kits of threaded nuts, of iron or steel; propeller hardware kits of non-threaded spring washers or lock washers, of iron or steel; kits of pins, rings, or clips, of iron or steel, non-threaded; remote control repair kits (of helical springs, of iron or steel; of springs or leaves for springs, of iron or steel); ratchet repair kits, drain plug kits, tilt lock lever kits, spacer kits, band kits, plate kits, clamp kits, coupler kits, bushing kits, pin kits, or rod end kits for marine engines, of iron or steel; water tube kits of refined copper tubes or pipes; tube seal kits of copper alloy tubes or pipes; connection kits or fitting assembly kits, of copper alloys; kits of non-threaded washers, prop nuts, screws, bolts, of copper, iron, or steel, with heads of copper; bushing repair kits, of copper; kits of screws, bolts, nuts, washers, of aluminum; service kits of anodes and drain tubes, of aluminum; kits of anodes and anode plates, of zinc; water hose repair kits; kits of hand tools; kits of vices; kits of clamps; kits of tiebars; kits of clamp brackets; kits of plate assemblies; kits of power trim; kits of swivel brackets; kits of base metal mountings; repair kits (for bracket mountings, of base metal; for marine engine pumps for both water and fuel; for needle roller bearings; for cylindrical roller bearings; for prop shafts, shift shafts, transmission shafts, or cranks; for lower unit bearing carriers or housed bearings; for bearing housings; for gears or bearings; for clutch lower units, gear lower units, or shaft couplings; for transmissions, coils, gear sets, shift rods, flywheels, control levers, or clutches; for gaskets or joints, of metal sheeting, combined with one or two more layers of metal; for rotary converters for electric motors or electric generating sets; for starters, motors, and dual purpose starter generators; for shafts, covers, armatures, or end caps for electrical ignition of marine motors; for valves, conversion kits, gear shift kits, attaching kits, or spring kits for electrical equipment; for coils, harnesses, rigging, cables, or ignition wiring sets for marine vessels; for wiring or wiring assemblies fitted with connectors); service repair kits, O-ring set kits, cylinder head kits, cylinder block kits, transom kits, oil line kits, float needle kits, steering attaching kits, throttle control kits, shift shaft kits, valve intake kits, piston kits, tiller conversion kits, lever kits, cowl kits, connecting rod kits, manifold kits, riser kits, or carburetor kits for spark-ignition internal combustion piston engines; repower kits; exhaust kits; shaft guard kits; power trim kits, overhaul kits, or cylinder assembly trim kits for linear acting hydraulic power engines or motors; jet pump kits for hydraulic power engines and motors; bell housing kits; lever tilt stop kits; recoil starter kits and assemblies; end cap kits, manifold kits, spring kits, overhaul kits, handle kits, repair kits, gimbal ring kits, transom repair kits, starter kits, bracket kits, shift cable kits, shift handle kits, or extension arm kits for marine engines and motors; kits of pumps (hand; grease; fuel; primer bulb; oil; bilge; aerator; hand- or foot-operated air; air; vacuum); water pump kits, pump repair kits, pump service kits, fuel pump kits, and kits for lubricating or cooling pumps for marine internal combustion piston engines; kits of centrifugal pumps for liquids; impeller kits; vapor separator kits; housing kits; seal kits; kits of turbo chargers for engines; compressor or turbo kits for air or vacuum pumps; kits of heat exchanger units; kits of heat exchanger assemblies; separator kits, filter kits, service kits, oil or fuel filter kits, and intake air filter kits for internal combustion engines; kits for filtering or purifying hydraulic fuel and separating oil, and water or air filtering kits for marine engines and equipment; vessel view kits; automatic data processing machine kits; kits of valves (for oleohydraulic or pneumatic transmissions; water; check (nonreturn); safety; relief); float valve kits, regulator kits, throttle body kits, injector kits, solenoid kits, diaphragm kits, needle valve kits, purge vent kits, or thermostatic control valve kits for marine engine pipes and fuel tanks; repair kits, thermostat kits, control valve kits, and valve kits for pipes and tanks; kits of bearings (ball; tapered roller); bearing installation kits; kits of flywheels or pulleys; gasket sets; gearcase seal kits; joint kits of metal sheeting; kits of propellers; kits of electric motors and generators, with an output not exceeding 37.5W; tilt repair kits or trim repair kits for shift actuators and DC electric motors or generators with an output not exceeding 750W; charging kits; static converter kits; electromagnet kits; service kits for spark plugs; flywheel kits; ignition magneto kits; magneto-dynamo kits; magnetic flywheel kits; kits of distributors; kits of ignition coils; alternator kits; generator kits; voltage regulator kits, relay kits or voltage-current regulator kits with cut-out relays; kits of transmission equipment or voice, image, or data reception equipment for communication in a wire or wireless network; kits of GPS unit or radio navigational aid equipment; monitor kits or indicator panel kits with LCDs or LEDs; horn kits, lamp kits, or electric sound or visual signaling equipment kits; trim sender kits; variable resistor kits; fuse kits; automatic circuit breaker kits; kits of relays, for a voltage not exceeding 60V; relay kits; switch kits to switch or protect electrical circuits; kits of boards, panels or consoles for electric control or distribution of electricity; shim kits, fuse block holder kits, rigging kits, or kits of electrical equipment for switching or protecting electrical circuits, boards, or panels; kits of diodes, not photosensitive or light-emitting; anode kits for electroplating a marine engine to prevent corrosion; handle kits; throttle kits; helm kits; conversion kits; electric control unit kits; kits of electrical insulators for wire harnesses; kits of plastic insulating fittings; kits of thermometers or pyrometers; lube bottle kits, dip stick kits, oil gauge kits, or kits of instruments and equipment for measuring or checking the flow or level of liquids; sensor kits, oil pressure kits, or kits of instruments and equipment for measuring or checking pressure of liquids or gases; gauge kits, sensor kits, or kits of instruments and equipment for measuring and checking flow level and pressure of liquids or gases; pressure kits, float kits, shaft kits, bezel kits, or kits of instruments and equipment for measuring flow level or pressure of liquids or gases; tachometer kits; speedometer kits; stroboscope kits; speedometer pickup kits; tachometer module kits; bezel gauge kits for revolution counters; production counter kits; odometer kits; kits of instruments and equipment for measuring and checking voltage, current, resistance, or power; crank position sensor kits, level kits, voltage gauge kits, or current sensor kits for marine engine instruments; trim sensor kits, monitor kits, sensor kits, or indicator kits for measuring or checking marine engine performance; thermostat kits; automatic regulating or controlling kits for marine engine instrument and equipment performance; rotor kits or housing kits for automatic regulating or controlling marine engine instrument and equipment performance; kits of seats (with wooden frames; with frames not of metal, wood, or bamboo); and, plastic furniture kits (duty rate ranges from duty-free to 9.9%).

The proposed foreign-status materials and components include: prepared glues and prepared adhesives based of rubber or plastic (including artificial resins); catalysts for marine engines; rigid tubes, pipes, hoses, or fittings (of polymers of ethylene; of plastics); tubes, pipes, or hoses (of plastic; of plastic, with fittings); non-rigid tubes, pipes, or hoses, of plastic, reinforced with metal or PVC; plastic components (fittings; self-adhesive labels; sheet, strip, or film; stoppers; lids; caps; closures; emblems or ornaments for boats; gaskets; covers; inserts; clamps; clips; bushings; washers; plugs; insulating fittings; seats with frames; furniture); sacks and bags (of polymers of ethylene; of plastics, not polymers of ethylene); plates, sheet, strip, and profile shapes of vulcanized, noncellular rubber; non-reinforced vulcanized rubber tubes, pipes, or hoses (with or without fittings); reinforced vulcanized rubber tubes, pipes, or hoses, with fittings; metal reinforced vulcanized rubber tubes, pipes, or hoses, with fittings; textile reinforced vulcanized rubber tubes, pipes, or hoses (with or without fittings); reinforced rubber hose assemblies (with or without fittings); vulcanized rubber components (endless transmission belts of trapezoidal cross section V-belts (V-ribbed, not exceeding 180 cm; not V-ribbed, not exceeding 180 cm; not V-ribbed, of an outside circumference exceeding 180 cm but not exceeding 240 cm); transmission belts, belting, or endless synchronous belts, with an outside circumference exceeding 60 cm but not exceeding 150 cm; transmission belts or belting; gaskets; washers; seals; plugs; grommets; mounts; fittings; O-rings; bushings); belonging bags or sacks, with an outer surface of plastic sheeting; plywood; veneered panels; laminated wood; paper or paperboard, cut to size or shape; printed books, brochures, leaflets, or printed matter; twine, starter rope, safety rope, cordage, ropes, or cables, of synthetic fibers; gaskets, of carbon fibers; tubes, pipes, or hollow profiles, of seamless alloy steel; welded circular cross sections of tubes, pipes, or hollow profiles (of stainless steel; of alloy steel); stainless steel components (threaded elbows; bends; sleeves; tube or pipe fittings); iron or steel components (threaded elbows; bends; sleeves; tube or pipe fittings; stranded wire, ropes, or cables, not electrically insulated; timing chains or roller chains; coach screws; self-tapping screws; threaded screws, bolts, nuts, rods, and bushings; non-threaded washers, spring washers, lock washers, cotters and cotter pins, pins, rings, and clips; rivets; helical springs; springs or leaves for springs; washers; clips; fittings; hooks; straps; spacers; rings; bushings; plates); copper components (tubes or pipes (of refined copper; of copper alloys); tube or pipe fittings, of copper alloys; stranded wire or cables; plugs; clips; ends; retainers; bushings; elbows; covers, plugs, connectors, plates, rings, caps, holders, or housings for electrical equipment for switching or protecting electrical circuits boards or panels; winding wire); non-threaded washers, pins, retaining rings, screws, bolts, or nuts of copper, iron, or steel with heads of copper; aluminum components (tubes or pipes, of aluminum alloys; tube or pipe fittings; screws; bolts; nuts; washers; spacers; bushings; plates; sleeves; clamps; inserts; heads, collars, nose cones, columns, or covers for electric motors or electric generating sets and rotary converters); anodes, of zinc; hand-operated spanners or wrenches (adjustable and non-adjustable); socket wrenches, drives, or extensions; hand tools; base metal components (padlocks; locks; mountings; bracket mountings or fixtures); components for marine engines (powerheads; drives; transoms; valves; inserts; covers; collars; plates; end caps; hydraulic fluid power pumps; turbo chargers; water filtering strainers, purifying strainers, or screen struts; housings; screens; filtering equipment; solenoids; triggers; plugs; rotors; contact sets; rev limiters; starting equipment; carbon-film fixed internal resistors; internal resistors); pistons, shift shafts, shift levers, fuel bowls, throttle controls, levers, covers, retainers, or shafts for spark-ignition internal combustion piston engines; linear acting hydraulic power engines and motors; hydraulic power engines and motors; recoil starters; blocks, link rods, actuators, covers, tubes, pistons, or scrapers for marine engines and motors; various pumps (hand; grease; fuel; primer bulb; oil; fuel, lubricating, or cooling medium for internal combustion piston engines; centrifugal, bilge, or aerator for liquids; hand- or foot- operated air; air; vacuum); impellers, inserts, liners, bases, faceplates, shafts, or grommets for marine engine pumps; shields, manifolds, compressors, adapters, or restrictors for air or vacuum pumps; heat exchanger units; heat exchanger assemblies; covers, plates, connections, or housings to protect sections of a marine engine; filters for internal combustion engines (oil; fuel; intake air); automatic data processing machines; shock absorbers, handles, tillers, swivel brackets, or starters to support the use of marine engines; tie rods; levers; pucks; plates; pads; links; handles of mounts; front or back mounts; various valves (pressure-reducing; for oleohydraulic or pneumatic transmissions; check (nonreturn); safety; relief); regulators, throttle bodies, solenoids, purge vents, valves, floats, nozzles, dampers, covers, joints, or brackets for pipes and tanks; steel components (ball bearings; tapered roller bearings; spherical roller bearings; needle roller bearings; cylindrical roller bearings; needles; rollers); tapered roller bearings, ball bearing washers, thrust bearings, or bearing spacers, of steel, aluminum, or plastic; transmission shafts, shift shafts, or cranks; bearing carriers; housed bearings; bearing housings; gears or gearing; flywheels; pulleys; clutches; shaft couplings; thrust rings, drain plugs, flush plugs, control levers, gearcase covers, ideal exhaust covers, shift arms, shift levers, forward gears, bevel gears, joints, sprockets for transmission shafts, cranks, flywheels, clutches, or shaft couplings, of copper, steel, or aluminum; gaskets or joints, of metal sheeting; propellers, of stainless steel or aluminum; steel or aluminum components (seals; fittings; thrust washers; hubs; shafts, covers, armatures, end caps, clamps, pinions, or bushings for electrical ignition or starting equipment); electric motors and generators with an output not exceeding 37.5W; DC electric motors and generators with an output not exceeding 75kW; static converters; spark plugs; ignition magnetos; magneto-dynamos; magnetic flywheels; distributors; ignition coils; starter motors or dual purpose starter generators; generators; alternators; equipment for transmission or reception of voice, images, or other data for communication in a wire or wireless network; GPS units; radio navigational aid equipment; antennas; antenna reflectors; indicator panels with LCDs or LEDs; horns, buzzer, lamps, and equipment for electric sound or visual signaling; dielectric electrical capacitors, of plastic or paper; variable resistors; fuses; motor overload protectors; electrical circuits protectors; relays, for a voltage not exceeding 60V; relays; switches to switch or protect electrical circuits; lamp-holders; plugs; sockets; equipment to switch circuits or circuit protectors; boards, panels, or consoles for electric control or distribution of electricity; electrical filament lamps, not ultraviolet or infrared; diodes, not photosensitive or light-emitting; anode assemblies; electrical control units or modules; covers, housings, gear shifts, link rods, handles, joints, bezels, triggers, knobs, barrels, rollers, racks, throttle levers, plates, carriers, levers, or pivots, of electrical equipment for marine engines, of base metal or plastic; ignition wiring sets or wiring sets for ships, vessels, or boats; wiring assemblies fitted with connectors, not exceeding 1,000V; electric conductors not fitted with connectors (not exceeding 1,000V; exceeding 1,000V); electrical insulators; sensors, tri-ducers, live scopes for ice fishing, GPS, sonar fish finders and underwater navigational instruments; caps, bezels, port covers, gaskets, or doors for compasses, navigational instruments and equipment, of plastic or elastomers; thermometers; pyrometers; dip sticks; various gauges (fuel level; oil level; oil pressure; water pressure; compression pressure; trim); water flow detectors; gauges and sensors for measuring or checking the flow, level, or pressure of liquids or gases; adaptors, bezels, covers, or shafts, for measuring the flow, level, or pressure of liquids or gases; speedometers; tachometers; stroboscopes; mechanical senders, tachometers, bezels, odometers, or speedometers for revolution counters or production counters; multimeters without a recording device; voltmeters or battery voltage analyzers; crank position sensors; laser levels; tip and tell sensors; gauges, sensors, testers, probes, or indicators measuring or checking marine engine performance; thermostats; temperature and map sensors for automatic regulating or controlling the thermostats or locators in marine engines; housings, covers, and adaptors for thermostats; seats with wooden frames; and, cushions for boats, of foams, vinyl, and elastomers (duty rate ranges from duty-free to 12.5%). The request indicates that certain materials/components are subject to duties under Section 232 of the Trade Expansion Act of 1962 (Section 232) or Section 301 of the Trade Act of 1974 (Section 301), depending on the country of origin. The applicable Section 232 and Section 301 decisions require subject merchandise to be admitted to FTZs in privileged foreign status (19 CFR 146.41).

Public comment is invited from interested parties. Submissions shall be addressed to the Board's Executive Secretary and sent to: ftz@trade.gov. The closing period for their receipt is November 28, 2022.

A copy of the notification will be available for public inspection in the “Online FTZ Information System” section of the Board's website.

For further information, contact Juanita Chen at Juanita.Chen@trade.gov.

Dated: October 11, 2022.
Andrew McGilvray,
Executive Secretary.

[FR Doc. 2022-22438 Filed 10-14-22; 8:45 am]

BILLING CODE 3510-DS-P